DEPARTMENT OF HOMELAND SECURITY

Coast Guard

[Docket No. USCG-2010-1066]

Recreational Boating Safety Projects, Programs, and Activities Funded Under Provisions of the Transportation Equity Act for the 21st Century; Fiscal Year 2016

ACTION: Notice.

SUMMARY: The Coast Guard is publishing this notice to satisfy a requirement of the Transportation Equity Act for the 21st Century that a detailed accounting of the projects, programs, and activities funded under the national recreational boating safety program provision of the Act be published annually in the Federal Register. This notice specifies the funding amounts the Coast Guard has committed, obligated, or expended during fiscal year 2016, as of September 30, 2016.

In 1999, the Transportation Equity Act for the 21st Century made $5 million per year available for the payment of Coast Guard expenses for personnel and activities directly related to coordinating and carrying out the national recreational boating safety program. In 2005, the law was amended, and the amount was increased to $5.5 million. In 2015, the law was amended again which resulted in the consolidation of the $5.5 million and the two percent amount made available under 46 U.S.C. Chapter 131, Section 13107(2). For Fiscal Year 2016 the amount allocated to the Coast Guard under Public Law 114-94, Section 10001(2) was $7.7 million.

FOR FURTHER INFORMATION CONTACT: For questions on this notice, call Jeff Ludwig, Regulations Development Manager, telephone 202-372-1061.

SUPPLEMENTARY INFORMATION:

Background and Purpose

The Transportation Equity Act for the 21st Century became law on June 9, 1998 (Pub. L. 105-178; 112 Stat. 107). The Act required that of the $5 million made available to carry out the national recreational boating safety program each year, $2 million shall be available only to ensure compliance with Chapter 43 of Title 46, U.S. Code. On September 29, 2005, the Sportfishing and Recreational Boating Safety Amendments Act of 2005 was enacted (Pub. L. 109-74; 119 Stat. 2031). This Act increased the funds available to the national recreational boating safety program from $5 million to $5.5 million annually, and stated that “not less than” $2 million shall be available only to ensure compliance with Chapter 43 of Title 46, U.S. Code. Subsequently on December 04, 2015 the law was once again amended (Pub. L. 114-94; Section 10001). This amendment consolidated the $5.5 million and the two percent amount made available under 46 U.S.C. Chapter 131, Section 13107(2). For Fiscal Year 2016 the amount allocated to the Coast Guard under Public Law 114-94, Section 10001(2) was $7.7 million. Of the $7.7 million made available “not less than” $2.1 million shall be available to ensure compliance with Chapter 43 of Title 46, U.S. Code and “not more” than $1.5 million is available to conduct by grant or contract a survey of levels of recreational boating participation and related matters in the United States.

These funds are available to the Secretary from the Sport Fish Restoration and Boating Trust Fund established under 26 U.S.C. 9504(a) for payment of Coast Guard expenses for personnel and activities directly related to coordinating and carrying out the national recreational boating safety program. Under 46 U.S.C. 13107(c), on and after October 1, 2016 no funds available to the Secretary under this subsection may be used to replace funding provided through general appropriations, nor for any purposes except those purposes authorized; namely, for personnel and activities directly related to coordinating and carrying out the national recreational boating safety program. Amounts made available under 46 U.S.C. 13107(c) remain available during the two succeeding fiscal years. Any amount that is unexpended or unobligated at the end of the 3-year period during which it is available, shall be withdrawn by the Secretary and allocated to the States in addition to any other amounts available for allocation in the fiscal year in which they are withdrawn or the following fiscal year.

Use of these funds requires compliance with standard Federal contracting rules with associated lead and processing times resulting in a lag time between available funds and spending. The total amount of funding transferred to the Coast Guard from the Sport Fish Restoration and Boating Trust Fund and committed, obligated, and/or expended during fiscal year 2016 for each activity is shown below.

Specific Accounting of Funds

Manufacturer Compliance Inspection Program/Boat Testing Program: Funding was provided to continue the national recreational boat compliance inspection program, initiated in January 2001. During the Fiscal Year contracted personnel, acting on behalf of the Coast Guard, visit recreational boat manufacturers, recreational boat retailers, and recreational boat shows to inspect boats for compliance with the Federal regulations. During the 2015-2016 reporting year, inspectors performed 391 factory visits, 220 retailer visits, and 8 boat show visits resulting in 2,777 boats being inspected with findings of 883 non-compliances. ($2,123,490). Additional expenditures regarding this subject that are accounted for in the funding amounts listed below are Contract Personnel Support ($106,000), Reimbursable Salaries ($194,586) and New Recreational Boating Safety Associated Travel ($5,976). Collectively, these expenditures, along with other potential projects, are considered to be applicable to the legal requirement that “not less than” $2.1 million be available to ensure compliance with Chapter 43 of Title 46, U.S. Code.

Administrative Overhead—Funding was provided to pay for Boating Safety Division office supplies. ($6,027).

Boating Accident Report Database (BARD) Web System: Funding was allocated to continue providing the BARD Web System, which enables reporting authorities in the 50 States, five U.S. Territories, and the District of Columbia to submit their accident reports electronically over a secure Internet connection. The system also enables the user community to generate statistical reports that show the frequency, nature, and severity of boating accidents. Funds supported system maintenance, development, and technical (hotline) support. ($237,997).

Contract Personnel Support: Funding was provided for contract personnel to support the appropriate cost/benefit analyses for potential new regulations and to conduct general boating safety-related research and analysis and to assist the manufacturer compliance program. ($616,207).

Boating Accident News Clipping Services: Funding was provided to continue to gather daily news stories of recreational boating accidents nationally for more real time accident information and to identify accidents that may involve regulatory non-compliances or safety defects. ($50,000).

RBS Program Compliance Travel: Funding was provided to pay for CG-BSX-2 staff to visit State and national nonprofit public service organization grant programs to verify their compliance with grant program requirements. ($86,297).

National Boating Safety Advisory Council: Funding was provided to pay for member travel and meeting costs for the 95th National Boating Safety Advisory Council meeting. ($35,241).

Grant Program Assessment: A contract was funded to provide for an external third-party to assess the operation of the State and national nonprofit public service organization grant programs. ($168,043).

Grant Management Training: Funding was provided to pay for staff to attend training to improve their grant management and oversight skills. ($1,469).

New Recreational Boating Safety Associated Travel: Funding was provided to facilitate travel by employees of the Boating Safety Division to carry out additional recreational boating safety actions and to gather background and planning information for new recreational boating safety initiatives. ($22,873).

Printing: Funding was provided for printing Engine Cut-Off Switch Brochures. These brochures are used to educate boaters on the importance of wearing the engine cut-off lanyard. The Coast Guard, USCG Auxiliary, U.S. Power Squadrons, and State agencies distribute this product to the public at local boating events, during classroom instruction, and during Vessel Safety Checks. ($9,727).

Reimbursable Salaries: Funding was provided as authorized by 46 U.S.C. 13107(c) to pay for 18 personnel directly related to coordinating and carrying out the national recreational boating safety program. ($2,273,722).

Technical Support and Analysis for the Recreational Boating Safety Program: The purpose of this contract is to obtain Contractor professional, technical, and management support for services relating to the national survey development, nonprofit grants grading assessments, and other analysis as needed for the enhancement of the administration of the National Recreational Boating Safety Program. Projects covered by the contract include statistical analyses of data collected in the 2012 National Recreational Boating Survey and research on the implications of the findings relative to boating safety and the National Recreational Boating Safety Program; a review of scientific literature covering various measures of risk exposure in other transportation related fields; support in designing the next National Recreational Boating Safety Survey; and development of a web-based system for review of national nonprofit organization grant submissions. ($500,000).

Of the $7.7 million made available to the Coast Guard in fiscal year 2016, $3,810,950 has been committed, obligated, or expended and an additional $2,320,143 of prior fiscal year funds have been committed, obligated, or expended, as of September 30, 2016. The remainder of the FY15 and FY16 funds made available to the Coast Guard (approximately $6,453,196) may be retained for the allowable period for the National Recreational Boating Survey or transferred into the pool of money available for allocation through the state grant program.

Authority

This notice is issued pursuant to 5 U.S.C. 552 and 46 U.S.C. 13107(c)(4).

Dated: April 3, 2017.
V.B. Gifford,
Captain, U.S. Coast Guard, Director of Inspections & Compliance.

[FR Doc. 2017-07265 Filed 4-11-17; 8:45 am]

BILLING CODE 9110-04-P